NATIONAL AERONAUTICS AND SPACE ADMINISTRATION

14 CFR Part 1204

[Docket No: NASA-2014-0007]

RIN 2700-AE10

NASA Protective Services Enforcement

AGENCY: National Aeronautics and Space Administration.

ACTION: Proposed rule.

SUMMARY: NASA is proposing to amend its regulations by adding a subpart to establish traffic enforcement regulations, authorities, and procedures at all NASA Centers and component facilities. The revisions to this rule are part of NASA's retrospective plan under EO 13563 completed in August 2011.

DATES: Submit comments on or before July 31, 2014.

ADDRESSES: Comments must be identified with RIN 2700-AE10 and may be sent to NASA via the Federal E-Rulemaking Portal: http://www.regulations.gov. Follow the online instructions for submitting comments.

FOR FURTHER INFORMATION CONTACT: Charles Lombard, charles.e.lombard@nasa.gov.

SUPPLEMENTARY INFORMATON:

Background

Part 1204 describes the legal basis and other applicable NASA regulations related to the NASA's security and law enforcement services implementation requirements, of which was promulgated March 28, 1972 [38 FR 8056]. Changes are being made to align this part with NASA objectives in the protection of its people and property.

It is the policy of the National Aeronautics and Space Administration that an effective, standardized, and comprehensive traffic safety program be established and maintained at NASA Headquarters, NASA Centers, including Component and Technical Service Support Centers. A traffic safety program is essential for the protection and security of NASA bases, stations, facilities, laboratories, and of its aircraft, spacecraft, missiles and similar vehicles and of its real and personal property, including property in the custody of NASA contractors and subcontractors. Further, at this time, NASA does not have a regulation to enforce (including criminalizing) such requirements such as speeding, improper or unsafe parking, unsafe operation of motor vehicles, and similar minor and/or petty traffic infractions. As a result, currently, the Agency can only issue administrative traffic citations that are written warnings, with insufficient consequences, and accordingly, that have very limited positive impact on safety and security at or on its many facilities. Currently, as a non-Federal administrative infraction, minor traffic offenses cannot be assimilated using Title 18, Section 13, Assimilative Crimes Act. Therefore, currently NASA Protective Services (including contractor Security Officers) are unable to issue District Court Violation Notices (DCVN) for such obvious safety-related, traffic offenses such as speeding. Traffic infractions remain a constant safety problem, and security vulnerability. To resolve this problem, NASA is proposing a new rule to be incorporated into 14 CFR part 1204 as Subpart 11, NASA Traffic Safety. The new rule will apply to all persons who operate or control a motor vehicle or otherwise use the streets, roadways, parking areas, etc. of a NASA facility even where the facility is outside of fence lines and/or non-contiguous with other NASA assets. With this change, NASA Security Forces can fully participate in the Federal Magistrate programs, and may be authorized to issue viable and actionable District Court Violation Notices for offenses up to and including offenses at the level of driving under the influence infractions, utilizing the Central Violations Bureau of the Administrative Office of the U.S. Courts. NASA has internal requirements (listed below) pertaining to these rules, which are not duplicative, but are necessary to ensure that implementation of subpart 11 of part 1204 is consistent, uniform, and standardized. These internal requirements can be accessed at http://nodis3.gsfc.nasa.gov.

• NPR 1600.1, NASA Security Program Procedural Requirements

• NPD 1600.2, NASA Security Policy,

• NPR 8715.3, NASA General Safety Program Requirements. NASA's full plan can be accessed on the Agency's open government Web site at http://www.nasa.gov/open/.

Statutory Authority

Part 1204 is established under the National Aeronautics and Space Act (Space Act), in accordance with Title 51 U.S.C., the National and Commercial Space Programs, Title 5, U.S. Code section 301, and Title 18 U.S.C. 799.

Sections 20132 and 20133 of the Space Act authorize the NASA Administrator to establish security rules and procedures to safeguard NASA's employees, facilities, and proprietary information and technologies. Section 301 of Title 5, U.S. Code (2014) provide that: “The head of an Executive department or military department may prescribe regulations for the government of his department, the conduct of its employees, the distribution and performance of its business, and the custody, use, and preservation of its records, papers, and property. This section does not authorize withholding information from the public or limiting the availability of records to the public.”

Title 18, section 799 provides that “[w]hoever shall violate, attempt to violate, or conspire to violate any regulation or order promulgated by the Administrator of the National Aeronautics and Space Administration” for protection of its real property, flight and space vehicles, or other equipment “shall be fined as provided under this title, or imprisoned not more than one year, or both.”

These statutes authorize further regulations to comply with the Agency's objectives in the protection of its people, property, systems, and information. Regulations as set forth herein will enhance safety and security by permitting citations for and enforcement of, traffic infractions in appropriate venues.

Regulatory Analysis

Executive Order 12866, Regulatory Planning and Review and Executive Order 13563, Improving Regulation and Regulation Review

Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been designated as “not significant” under section 3(f) of Executive Order 12866.

Review Under the Regulatory Flexibility Act

The Regulatory Flexibility Act (5 U.S.C. 601 et seq.) requires an agency to prepare an initial regulatory flexibility analysis to be published at the time the proposed rule is published. This requirement does not apply if the agency “certifies that the rule will not, if promulgated, have a significant economic impact on a substantial number of small entities” (5 U.S.C. 603). This rule updates section of the CFR to align with Federal guidelines and does not have a significant economic impact on a substantial number of small entities.

Review Under the Paperwork Reduction Act

This direct final rule does not contain any information collection requirements subject to the Paperwork Reduction Act of 1995 (44 U.S.C. 3501 et seq.).

Review Under Executive Order of 13132

Executive Order 13132, “Federalism,” 64 FR 43255 (August 4, 1999) requires regulations be reviewed for Federalism effects on the institutional interest of states and local governments, and, if the effects are sufficiently substantial, preparation of the Federal assessment is required to assist senior policy makers. The amendments will not have any substantial direct effects on state and local governments within the meaning of the Executive Order. Therefore, no Federalism assessment is required.

List of Subjects in 14 CFR Part 1204

Federal buildings and facilities, Security measures.

Accordingly, under the authority of the National Aeronautics and Space Act, as amended, (51 U.S.C. 20113), 5 U.S.C. 301, and 18 U.S.C. 799, NASA is proposing to amend part 1204 as follows:

PART 1204—ADMINISTRATIVE AUTHORITY AND POLICY

1. Add subpart 11 to read as follows:

Subpart 11—Enforcing Traffic Laws at NASA Centers and Component Facilities
Sec.
1204.1100 Scope of subpart.
1204.1101 Policy.
1204.1102 Responsibilities.
1204.1103 Procedures.
1204.1104 Violations.

Subpart 11—Enforcing Traffic Laws at NASA Centers and Component Facilities

Authority: The National and Commercial Space Program 51 U.S.C. 20132 and 20133 et seq; Title 5, U.S.C. 301, and Title 18 U.S.C. 799 (2014).

§ 1204.1100 Scope of subpart.

This subpart establishes policies pursuant to the requirements of National and Commercial Space Programs (51 U.S.C. 20132) authorizing the NASA Administrator to establish such security requirements, restrictions and safeguards as he deems necessary in the interest of national security, under 5 U.S.C. 301, “Housekeeping statute,” and 18 U.S.C. 799, making it criminal to violate published NASA regulations. The provisions of this subpart apply to all NASA installations, including NASA Headquarters, NASA Centers, and component facilities. NASA installations refers to all NASA-owned, controlled, or leased property, with exclusive or concurrent Federal jurisdiction, including non-contiguous or unfenced areas and including areas otherwise open to the public at large. These provisions are also applicable to all persons who operate or control a motor vehicle, or otherwise use the streets of a NASA installation, over which the United States exercises exclusive or concurrent legislative jurisdiction.

§ 1204.1101 Policy.

(a) It is NASA policy that an effective, standardized, and comprehensive traffic safety program be established and maintained at all NASA Centers, and component facilities, as prescribed in NASA Procedural Requirement (NPR) 8715.C, NASA General Safety Program Requirements. A traffic safety program is essential for the protection and security of NASA laboratories, stations, base, or other facilities, and for the protection of any of its aircraft, missiles, spacecraft, or similar vehicles, or part thereof, and/or of any property or equipment in the custody of any contractor, subcontractor, or the Administration.

(b) To ensure a safe and secure workplace and to provide better for preservation of life and property, all persons on a NASA Center or component facility shall comply with the vehicular and pedestrian traffic requirements of the installation per this Subpart, and the laws of the state in which the installation is located.

(c) Vehicular and pedestrian traffic. (1) Drivers of all vehicles in or on NASA-owned, controlled or leased property shall be in possession of a current and valid state or territory issued driver's license and vehicle registration, and the vehicle shall display all current and valid tags and licenses required by the jurisdiction in which it is registered.

(2) Drivers who have had their privilege or license to drive suspended or revoked by any state or territory shall not drive any vehicle in or on property during such period of suspension or revocation.

(3) Drivers of all vehicles in or on property shall drive in a careful and safe manner at all times and shall comply with the signals and directions of security force personnel, other authorized individuals, and all posted traffic signs, including speed limits.

(4) The blocking of entrances, driveways, walks, loading platforms, or fire hydrants in or on property is prohibited.

(5) Parking without authority, parking in unauthorized locations or in locations reserved for other persons, parking continuously in excess of 18 hours without permission, or contrary to the direction of posted signs is prohibited. This section may be supplemented by the Center Director or installation officer in charge from time to time by the issuance and posting of specific traffic directives. When so issued and posted, such directives shall have the same force and effect as if made a part hereof.

(d) Center Directors are hereby delegated authority to determine if their respective Centers require the authority and ability to issue traffic and parking citations, which if implemented, must be in accordance with this Subpart. Should no traffic and parking citation authority and ability be necessary, the Center Director concerned will make a report of same to the Administrator via Associate Administrator for Protective Services. Prior to the effective date of Centers implementing, Centers and Headquarters Operations should transmit their proposed regulations to NASA Office of Protective Services for review and concurrence.

(e) Consistent with arrangements with Federal authorities as each Center and Headquarters may make, violators of such regulations may be issued a District Court Violation Notices for offenses by security officers, including contractor guards. In accordance with this regulation, Centers are authorized to make liaison and such arrangements for appropriate enforcement programs with the cognizant Office(s) of the United States Attorney. Additional information on processing violation notices and liaison necessary is available at: http://www.cvb.uscourts.gov/.

(f) A copy of this subpart shall be posted in an appropriate place at each NASA Center or component facility.

§ 1204.1102 Responsibilities.

The Center Directors of NASA installations and the Executive Director for Headquarters Operations over which the United States has exclusive or concurrent legislative jurisdiction, and consistent with the foregoing, are delegated the authority to establish additional vehicular and pedestrian traffic rules and regulations for their installations.

All persons on a NASA Center or component facility are responsible for compliance with locally established vehicular and pedestrian traffic rules and regulations.

§ 1204.1103 Procedures.

The Center Directors and the Executive Director for Headquarters Operations shall issue local policies and procedural requirements, subject to prior NASA Office of Protective Services approval, which will implement this regulation for their respective NASA Centers and component facilities.

§ 1204.1104 Violations.

A person found in violation, on a NASA installation, of any vehicular or pedestrian traffic law, or local installation vehicular or pedestrian traffic rule or regulation made applicable to the installation under the provisions of this subpart, is subject to punishment as provided for by 18 U.S.C. 799 (violation of regulations of NASA).

Cheryl E. Parker,
NASA Federal Register Liaison Officer.

[FR Doc. 2014-15156 Filed 6-30-14; 8:45 am]

BILLING CODE 7510-13-P